DEPARTMENT OF HEALTH AND HUMAN SERVICES

National Institutes of Health

National Heart, Lung, and Blood Institute; Amended Notice of Meeting

Notice is hereby given of a change in the meeting of the National Heart, Lung, and Blood Institute Special Emphasis Panel, February 20, 2008, 8 a.m. to February 21, 2008, 1 p.m., Courtyard Marriott, 2899 Jefferson Davis Highway, Arlington, VA, 22202 which was published in the Federal Register on January 28, 2008, FR08-298.

The meeting dates were changed from February 20-21, 2008 to February 21-22, 2008. The rest of the information remains the same. The meeting is closed to the public.

Dated: January 30, 2008.
Jennifer Spaeth,
Director, Office of Federal Advisory Committee Policy.

[FR Doc. 08-504 Filed 2-5-08; 8:45 am]

BILLING CODE 4140-01-M